DEPARTMENT OF THE INTERIOR

National Park Service

[NPS-AKRO-DENA-GAAR-LACL-CAKR-KOVA-27310; PPAKAKROR4; PPMPRLE1Y.LS0000]

National Park Service Alaska Region Subsistence Resource Commission Program; Notice of Public Meetings

AGENCY: National Park Service, Interior.

ACTION: Meeting notice.

SUMMARY: The National Park Service (NPS) is hereby giving notice that the Denali National Park Subsistence Resource Commission (SRC), the Gates of the Arctic National Park SRC, the Lake Clark National Park SRC, the Cape Krusenstern National Monument SRC, and the Kobuk Valley National Park SRC will meet as indicated below.

DATES: The Denali National Park SRC will meet via teleconference from 10 a.m. to 12 p.m. or until business is completed on Wednesday, April 3, 2019. The alternate teleconference meeting date is Wednesday, April 10, 2019. Teleconference participants must call (907) 644-3604 or (907) 644-3603, prior to the meeting to receive teleconference passcode information. For more detailed information regarding these meetings, or if you are interested in applying for SRC membership, contact Designated Federal Official Don Striker, Superintendent, at (907) 683-9581, or via email at don_striker@nps.gov or Amy Craver, Subsistence Coordinator, at (907) 644-3604 or via email at amy_craver@nps.gov or Clarence Summers, Federal Advisory Committee Group Federal Officer, at (907) 644-3603 or via email at clarence_summers@nps.gov.

The Gates of the Arctic National Park SRC will meet from 8:30 a.m. to 5 p.m. or until business is completed on Tuesday, April 16, 2019, and Wednesday, April 17, 2019. For more detailed information regarding this meeting or if you are interested in applying for SRC membership, contact Designated Federal Official Greg Dudgeon, Superintendent, at (907) 457-5752, or via email at greg_dudgeon@nps.gov or Marcy Okada, Subsistence Coordinator, at (907) 455-0639 or via email at marcy_okada@nps.gov or Clarence Summers, Federal Advisory Committee Group Federal Officer, at (907) 644-3603, or via email at clarence_summers@nps.gov.

The Lake Clark National Park SRC will meet from 1 p.m. to 4:30 p.m. or until business is completed on Tuesday, April 30, 2019. For more detailed information regarding this meeting or if you are interested in applying for SRC membership, contact Designated Federal Official Susanne Green, Superintendent, at (907) 644-3627, or via email at susanne_green@nps.gov or Liza Rupp, Subsistence Manager, at (907) 644-3648, or via at email elizabeth_rupp@nps.gov or Clarence Summers, Federal Advisory Committee Group Federal Officer, at (907) 644-3603, or via email at clarence_summers@nps.gov.

The Cape Krusenstern National Monument SRC will meet from 1 p.m. to 5 p.m. or until business is completed on Tuesday, May 14, 2019, and from 9 a.m. to 12 p.m. on Wednesday, May 15, 2019. For more detailed information regarding this meeting or if you are interested in applying for SRC membership, contact Designated Federal Official Maija Lukin, Superintendent, at (907) 442-8301, or via email at maija_lukin@nps.gov or Hannah Atkinson, Cultural Resource Specialist, at (907) 442-8342, or via email at hannah_atkinson@nps.gov or Clarence Summers, Federal Advisory Committee Group Federal Officer, at (907) 644-3603, or via email at clarence_summers@nps.gov.

The Kobuk Valley National Park SRC will meet from 1 p.m. to 5 p.m. or until business is completed on Thursday, May 16, 2018, and from 9 a.m. to 12 p.m. on Friday, May 17, 2019. For more detailed information regarding this meeting or if you are interested in applying for SRC membership, contact Designated Federal Official Maija Lukin, Superintendent, at (907) 442-8301, or via email at maija_lukin@nps.gov or Hannah Atkinson, Cultural Resource Specialist, at (907) 442-8342, or via email at hannah_atkinson@nps.gov or Clarence Summers, Federal Advisory Committee Group Federal Officer, at (907) 644-3603, or via email at clarence_summers@nps.gov.

ADDRESSES: The Denali National Park SRC will meet via teleconference at the NPS Alaska Regional Office, Conference Room 536, 240 W. 5th Avenue, Anchorage, AK 99501. The Gates of the Arctic National Park SRC will meet at the Simon Paneak Museum, Main Street, Anaktuvuk Pass, AK 99709. The Lake Clark National Park SRC will meet at the Pedro Bay Community Center, 2510 Mountain Circle, Pedro Bay, AK 99674. The Cape Krusenstern National Monument SRC, and the Kobuk Valley National Park SRC will meet in the conference room at the Northwest Arctic Heritage Center, 171 3rd Avenue, Kotzebue, AK 99752.

SUPPLEMENTARY INFORMATION: The NPS is holding the meetings pursuant to the Federal Advisory Committee Act (5 U.S.C. Appendix 1-16). The NPS SRC program is authorized under title VIII, section 808 of the Alaska National Interest Lands Conservation Act (16 U.S.C. 3118).

SRC meetings are open to the public and will have time allocated for public testimony. The public is welcome to present written or oral comments to the SRC. SRC meetings will be recorded and meeting minutes will be available upon request from the Superintendent for public inspection approximately six weeks after the meeting.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting.

SRC meeting location and date may change based on inclement weather or exceptional circumstances. If the meeting date and location are changed, the Superintendent will issue a press release and use local newspapers and radio stations to announce the rescheduled meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2019-04558 Filed 3-12-19; 8:45 am]

BILLING CODE 4312-52-P